DEPARTMENT OF COMMERCE

National Oceanic and Atmospheric Administration

50 CFR Part 660

[Docket No. 021209300-3048-02; I.D. 112502C]

Fisheries off West Coast States and in the Western Pacific; Pacific Coast Groundfish Fishery; Groundfish Fishery Management Measures; Corrections

AGENCY: National Marine Fisheries Service (NMFS), National Oceanic and Atmospheric Administration (NOAA), Commerce.

ACTION: Corrections to the 2003 specifications and management measures.

SUMMARY: NMFS announces corrections to the Pacific Coast groundfish management measures published on March 7, 2003. South of 40°10′ N. lat., references to an area between Point Fermin and Newport South Jetty open during July and August to limited entry fixed gear and open access groundfish fisheries is corrected to allow California scorpionfish retention. Regulatory language referring to exempted prawn trawl in the open access fishery is clarified to only allow fishing inside the Rockfish Conservation Area (RCA) north of 40°10′ N. lat. as stated in the trip limit tables (Table 5 (North) and Table 5 (South)). This action also includes a correction to latitude and longitude coordinates for the RCA 75 fm (137 m) boundary. Typographical errors were corrected for these coordinates in a previous correction published on April 15, 2003, to the final rule but erroneously omitted in the most recent inseason action published on July 7, 2003).

DATES: Effective 0001 hours local July 22, 2003, until the 2004 annual specifications and management measures are effective, unless modified, superseded, or rescinded through a publication in the Federal Register.

ADDRESSES: Submit comments to D. Robert Lohn, Administrator, Northwest Region, NMFS, 7600 Sand Point Way NE, Seattle, WA 98115-0070; or Rod McInnis, Acting Administrator, Southwest Region, NMFS, 501 West Ocean Blvd, Suite 4200, Long Beach, CA 90802-4213.

FOR FURTHER INFORMATION CONTACT: Jamie Goen (Northwest Region, NMFS), phone: 206-526-6140; fax: 206-526-6736; and e-mail: jamie.goen@noaa.gov.

SUPPLEMENTARY INFORMATION:

Electronic Access

This Federal Register document is available on the Government Printing Office′s website at: http://www.access.gpo.gov/su_docs/ca/docs/aces/aces140.html. Background information and documents are available at the NMFS Northwest Region website at: http://www.nwr.noaa.gov/1sustfsh/gdfsh01.htm and at the Pacific Fishery Management Council′s website at: http://www.pcouncil.org.

Background

The Pacific Coast groundfish specifications and management measures for the 2003 fishing year (January 1-December 31, 2003) were initially published in the Federal Register as an emergency rule for January 1-February 28, 2003 (68 FR 908, January 7, 2003) and as a proposed rule for March 1-December 31, 2003 (68 FR 936, January 7, 2003). The emergency rule was amended at 68 FR 4719, January 30, 2003, and the final rule for March 1-December 31, 2003 was published in the Federal Register on March 7, 2003 (68 FR 11182). The final rule has been subsequently amended at 68 FR 18166 (April 15, 2003), at 68 FR 23901 (May 6, 2003), at 68 FR 23924 (May 6, 2003), at 68 FR 32680 (June 2, 2003), 68 FR 35575 (June 16, 2003) and at 68 FR 40187 (July 7, 2003).

Management measures for the Pacific Coast groundfish fishery, effective March 1-December 31, 2003 (68 FR 11182, March 7, 2003), contain errors in which species are subject to the limited entry fixed gear and open access Pt. Fermin/Newport South Jetty area (also known as Huntington Flats) opening during July through August. The inseason action published on May 6, 2003 (68 FR 23901), initially corrected the Pt. Fermin/Newport South Jetty area opening from applying to all Federal groundfish species to applying to all Federal groundfish species, except all rockfish and lingcod. The correction in the inseason action published on May 6, 2003, stated, “The intent of California's California Rockfish Conservation Area proposal presented to the Pacific Council at its September 2002 meeting, as well as language in California's Code of Regulations at Title 14, Section 27.82 (d)(2), was that this area should be open to limited entry fixed gear and open access fixed gear for all Federal groundfish species, except all rockfish, lingcod and ocean whitefish (Note: Ocean whitefish is managed by the State of California). This area is intended to be open during July-August to allow vessels to intercept California scorpionfish that are spawning on the sandy flats.” However, language allowing California scorpionfish to be retained in the Pt. Fermin/Newport South Jetty area during the July through August opening was inadvertently left out of the May 6, 2003 correction. Since California scorpionfish is a species of rockfish, the language in the May 6, 2003 inseason action prohibits fishing for all rockfish in the Pt. Fermin/Newport South Jetty area, including mistakenly prohibiting fishing for California scorpionfish. This document corrects the error by specifying that fishing for California scorpionfish is permitted during the Pt. Fermin/Newport South Jetty opening.

In addition, regulatory language in the open access fishery section of the management measures (paragraph IV.C.(1)) referring to exempted prawn trawl in the open access fishery is clarified in this document to only allow fishing inside and retention of groundfish caught in the Rockfish Conservation Area (RCA) north of 40°10′ N. lat. as stated in the trip limit tables (Table 5 (North) and Table 5 (South)).

NMFS Actions

For the reasons stated herein, NMFS announces the following corrections to the 2003 specifications and management measures (68 FR 11182 (March 7, 2003), as amended at 68 FR 18166 (April 15, 2003), at 68 FR 23901 (May 6, 2003), at 68 FR 23924 (May 6, 2003), at 68 FR 32680 (June 2, 2003) at 68 FR 35575 (June 16, 2003) and at 68 FR 40187 (July 7, 2003)) to read as follows:

* * * * *

PART 660—[CORRECTED]

1. On page 11206, in section IV., under A. General Definitions and Provisions, paragraph (19)(e)(ii) is corrected to read as follows:

(ii) The 75-fm (137-m) depth contour used north of 40°10′ N. lat. as an eastern boundary for the trawl RCA is defined by straight lines connecting all of the following points in the order stated:

* * * * *

(19) 48°05.91′ N. lat., 125°08.30′ W. long.;

(20) 48°07.00′ N. lat., 125°09.80′ W. long.;

(21) 48°06.93′ N. lat., 125°11.48′ W. long.;

(22) 48°04.98′ N. lat., 125°10.02′ W. long.;

* * * * *

2. On page 11217, in section IV., under B. Limited Entry Fishery, paragraph (1) is revised to read as follows:

IV. NMFS Actions

B. Limited Entry Fishery

(1) General. Most species taken in limited entry fisheries will be managed with cumulative trip limits (see paragraph IV.A.(1)(d),) size limits (see paragraph IV.A.(6)), seasons (see paragraph IV.A.(7)), and areas that are closed to specific gear types. The trawl fishery has gear requirements and trip limits that differ by the type of trawl gear on board (see paragraph IV.A.(14)). Cowcod retention is prohibited in all fisheries and groundfish vessels operating south of Point Conception must adhere to CCA restrictions (see paragraph IV.A.(19)). Yelloweye rockfish retention is prohibited in the limited entry fixed gear fisheries. Most of the management measures for the limited entry fishery are listed above and in the following tables: Table 3 (North), Table 3 (South), Table 4 (North), and Table 4 (South).

A header in Table 3 (North), Table 3 (South), Table 4 (North) and Table 4 (South) generally describes the Rockfish Conservation Area (i.e., closed area) for vessels participating in the limited entry fishery. The RCA boundaries are defined by latitude and longitude coordinates (See paragraph IV.A.(19), earlier) [Note: Between a line drawn due south from Point Fermin (33°42′ 30″ N. lat.; 118°17′ 30″ W. long.) and a line drawn due west from the Newport South Jetty (33°35′37″ N. lat.; 117°52′50″ W. long.,) vessels fishing for all Federal groundfish species, except lingcod and all rockfish other than California scorpionfish, with hook-and-line and/or trap (or pot) gear may operate from shore to a seaward boundary line which approximates 50 fm (91 m) in the months of July and August.]

Management measures may be changed during the year by announcement in the Federal Register. However, the management regimes for several fisheries (nontrawl sablefish, Pacific whiting, and black rockfish) do not neatly fit into these tables and are addressed immediately following Table 3 (North), Table 3 (South), Table 4 (North), and Table 4 (South).

* * * * *

3. On page 11221, in section IV., under B. Limited Entry Fishery, at the end of paragraph (1), Table 4 (South) is revised to read as follows:

IV. NMFS Actions

B. Limited Entry Fishery

(1) * * *

BILLING CODE 3510-22-S

* * * * *

4. On page 11222, in section IV., under C. Trip Limits in the Open Access Fishery, paragraph (1) is revised to read as follows:

IV. NMFS Actions

C. Trip Limits in the Open Access Fishery

(1) General. Open access gear is gear used to take and retain groundfish from a vessel that does not have a valid permit for the Pacific Coast groundfish fishery with an endorsement for the gear used to harvest the groundfish. This includes longline, trap, pot, hook-and-line (fixed or mobile), setnet and trammel net (south of 38° N. lat. only), and exempted trawl gear (trawls used to target non-groundfish species: pink shrimp or prawns, and, south of Pt. Arena, CA (38°57′30″ N. lat.), CA halibut or sea cucumbers). Unless otherwise specified, a vessel operating in the open access fishery is subject to, and must not exceed any trip limit, frequency limit, and/or size limit for the open access fishery. Groundfish species taken in open access fisheries will be managed with cumulative trip limits (see paragraph IV.A.(1)(d)), size limits (see paragraph IV.A.(6)), seasons (see paragraph IV.A.(7)), and closed areas. Cowcod retention is prohibited in all fisheries and groundfish vessels operating south of Point Conception must adhere to CCA restrictions (see paragraph IV.A.(19)). Retention of yelloweye rockfish and canary rockfish and, south of 40°10′ N. lat., bocaccio is prohibited in all open access fisheries. The trip limits, size limits, seasons, and other management measures for open access groundfish gear, including exempted trawl gear, are listed in Table 5 (North) and Table 5 (South). A header in Table 5 (North) and Table 5 (South) approximates the RCA (i.e., closed area) for vessels participating in the open access fishery. [Note: Between a line drawn due south from Point Fermin (33°42′ 30″ N. lat.; 118°17′ 30″ W. long.) and a line drawn due west from the Newport South Jetty (33°35′37″ N. lat.; 117°52′50″ W. long.,) vessels fishing for all Federal groundfish species, except lingcod and all rockfish other than California scorpionfish, with hook-and-line and/or trap (or pot) gear may operate from shore to a seaward boundary line which approximates 50 fm (91 m) in the months of July and August.] For vessels participating in exempted trawl fisheries, the RCAs are the same as those for limited entry trawl gear, except that pink shrimp and, north of 40°10′ N. lat., prawn trawl are not subject to the RCA. Exempted trawl gear RCAs are detailed in the exempted trawl gear sections at the bottom of Table 5 (North) and Table 5 (South). Retention of groundfish caught by exempted trawl gear is prohibited in the designated RCAs, except that pink shrimp trawl and, north of 40°10′ N. lat., prawn trawl may retain groundfish caught both inside and outside the trawl RCA subject to the limits in Table 5 (North) and Table 5 (South). Retention of groundfish caught by salmon troll gear is prohibited in the designated RCAs, except that salmon trollers may retain yellowtail rockfish caught both inside and outside the non-trawl RCA subject to the limits in Table 5 (North). The trip limit at 50 CFR 660.323(a)(1) for black rockfish caught with hook-and-line gear also applies. (The black rockfish limit is repeated at paragraph IV.B.(4).)

* * * * *

5. On page 11225, in section IV., under C. Trip Limits in the Open Access Fishery, at the end of paragraph (1), Table 5 (South) is revised to read as follows:

IV. NMFS Actions

C. Trip Limits in the Open Access Fishery

(1) * * *

* * * * *

* * * * *

Authority: 16 U.S.C. 1801 et seq.

Dated: July 17, 2003.
Rebecca Lent,
Deputy Assistant Administrator for Regulatory Programs, National Marine Fisheries Service.

[FR Doc. 03-18731 Filed 7-22-03; 8:45 am]

BILLING CODE 3510-22-C